DEPARTMENT OF THE TREASURY

Emergency Rental Assistance

AGENCY: Department of the Treasury.

ACTION: Notification.

SUMMARY: This notification announces that information about the Emergency Rental Assistance Program for States, U.S. Territories, certain local governments, and tribal communities is available on the U.S. Department of the Treasury (Treasury) website, https://www.treasury.gov/policy-issues/cares/emergency-rental-assistance-program. The website includes the grantee payment information form, instructions for submitting payment information, a list of eligible local governments, and a copy of the award terms to which grantees must agree in order to receive payments from Treasury.

FOR FURTHER INFORMATION CONTACT: Hannah Resig, Senior Policy Analyst, Domestic Finance, 202-622-1407, or Stephen T. Milligan, Deputy Assistant General Counsel (Banking & Finance), 202-622-4051.

SUPPLEMENTARY INFORMATION: On December 27, 2020, the President signed into law the Consolidated Appropriations Act, 2021 (the “Act”), Public Law 116-260. Division N, Section 501(a) of the Act provides $25 billion for Treasury to make payments directly to States (including the District of Columbia), U.S. Territories (Puerto Rico, the United States Virgin Islands, Guam, the Commonwealth of the Northern Mariana Islands, and American Samoa), local governments with more than 200,000 residents, the Department of Hawaiian Home Lands, and Indian tribes (defined to include Alaska native corporations) or the tribally designated housing entity of an Indian tribe, as applicable. Division N, Section 501(c) of the Act requires that grantees use at least 90 percent of the funds to provide financial assistance such as the payment of rent, rental arrears, utilities and home energy costs, and utility and home energy cost arrears on behalf of eligible households and permits grantees to use no more than ten percent of the funds to provide housing stability services to eligible households and cover administrative costs. More information is available at https://www.treasury.gov/policy-issues/cares/emergency-rental-assistance-program.

Dated: January 4, 2021.
Daniel Kowalski,
Counselor to the Secretary, U.S. Department of the Treasury.

[FR Doc. 2021-00164 Filed 1-7-21; 8:45 am]

BILLING CODE P